CONSUMER PRODUCT SAFETY COMMISSION

Sunshine Act Meeting Notice

TIME AND DATE: Wednesday, February 15, 2012, 10 a.m.-12 p.m.

PLACE: Room 410, Bethesda Towers, 4330 East West Highway, Bethesda, Maryland.

STATUS: Commission Meeting—Open to the Public.

Matters To Be Considered

1. Decisional Matter: ASTM F963-11.

2. Briefing Matter: FY 2012 Operating Plan.

TIME AND DATE: Wednesday, February 15, 2012; 2 p.m.-3 p.m.

PLACE: Room 410, Bethesda Towers, 4330 East West Highway, Bethesda, Maryland.

STATUS: Closed to the Public.

Matter To Be Considered

Compliance Status Report

The Commission staff will brief the Commission on the status of compliance matters.

For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: February 7, 2012.
Todd A. Stevenson,
Secretary.

[FR Doc. 2012-3211 Filed 2-8-12; 11:15 am]

BILLING CODE 6355-01-P